ENVIRONMENTAL PROTECTION AGENCY

[FRL -7652-4]

Science Advisory Board Staff Office; Environmental Economics Advisory Committee of the Science Advisory Board; Review of Upcoming Projects and Consultation on Mortality Risk Reduction Notification of a Public Advisory Committee Meeting

AGENCY: Environmental Protection Agency (EPA).

ACTION: Notice.

SUMMARY: The Environmental Protection Agency (EPA), Science Advisory Board (SAB) Staff Office is announcing a public meeting of the SAB's Environmental Economics Advisory Committee (EEAC). The EEAC will convene to review upcoming project requests and to offer a day long consultation on the methods for the valuation of mortality risk reduction.

DATES: May 12-13, 2004. The meeting will take place on Wednesday, May 12, 2004 from 12:30 p.m. until approximately 5 p.m. eastern time, and on Thursday, May 13, 2004 from 9 a.m. until approximately 4 p.m. eastern time.

MEETING LOCATION: The meeting will be held at the Science Advisory Board Conference Center located at 1025 F Street, NW., Suite 3705, Washington, DC 20004.

FOR FURTHER INFORMATION CONTACT: Any member of the public wishing further information regarding this meeting may contact Dr. Holly Stallworth, Designated Federal Officer (DFO), via telephone/voice mail at (202) 343-9867, via e-mail at stallworth.holly@epa.gov, or by mail at U.S. EPA SAB (MC 1400F), 1200 Pennsylvania Ave., NW., Washington, DC, 20460. General information about the SAB can be found in the SAB Web site at: http://www.epa.gov/sab.

SUPPLEMENTARY INFORMATION:

Background

EPA's National Center for Environmental Economics (NCEE) has requested the SAB conduct a consultation on ways to improve the metrics for the valuation of mortality risk reduction associated with EPA actions. The valuation of mortality risk reduction is an integral part of the economic analyses performed by EPA as recognized in its Guidelines for Preparing Economic Analyses (2000). However, because economic research on valuing health risk reductions is rapidly evolving, new information and approaches have become available since the release of the Guidelines. EPA is in the process of revisiting current estimates and methods used for valuing health risk reductions and plans to revise the Guidelines accordingly. This task is part of EPA's commitment to evaluate and revise components of EPA's Guidelines for Preparing Economic Analyses (2000) and to consult with the SAB as it does so.

The SAB was established by 42 U.S.C. 4365 to provide independent scientific and technical advice, consultation, and recommendations to the EPA Administrator on the technical basis for Agency positions and regulations. The SAB EEAC will conduct the requested consultation and will comply with the provisions of the Federal Advisory Committee Act (FACA) and all appropriate SAB procedural policies, and will report to the chartered SAB.

The SAB's EEAC will conduct the consultation on May 13, 2004. A roster of EEAC members, their biosketches, and the meeting agenda will be posted on the SAB Web site at: http://www.epa.gov/sab prior to the meeting.

Availability of Meeting Materials

A copy of the draft agenda for the meeting that is the subject of this notice will be posted on the SAB Web site prior to the meeting. Other materials that may be made available for this meeting may also be posted on the SAB Web site in this time-frame.

Procedures for Providing Public Comments

It is the policy of the SAB Staff Office to accept written public comments of any length, and to accommodate oral public comments whenever possible. The SAB expects that public statements presented at the meeting will not be repetitive of previously submitted oral or written statements. Oral Comments: In general, each individual or group requesting an oral presentation at a face-to-face meeting will be limited to a total time of ten minutes (unless otherwise indicated). Interested parties should contact the DFO in writing (e-mail, fax or mail—see contact information above) by close of business May 4, 2004 in order to be placed on the public speaker list for the meeting. Speakers should bring at least 35 copies of their comments and presentation slides for distribution to the participants and public at the meeting. Written Comments: Although written comments are accepted until the date of the meeting, written comments should be received in the SAB Staff Office at least one week prior to the meeting date so that the comments may be made available to the panel for their consideration. Comments should be supplied to the DFO at the address/contact information noted above in the following formats: one hard copy with original signature, and one electronic copy via e-mail (acceptable file format: Adobe Acrobat, WordPerfect, Word, or Rich Text files (in IBM-PC/Windows 95/98 format). Those providing written comments and who attend the meeting are also asked to bring 35 copies of their comments for public distribution.

Meeting Accommodations

Individuals requiring special accommodation to access this meeting, should contact the DFO at least five business days prior to the meeting so that appropriate arrangements can be made.

Dated: April 16, 2004.
Vanessa T. Vu,
Director, EPA Science Advisory Board Staff.

[FR Doc. 04-9143 Filed 4-21-04; 8:45 am]

BILLING CODE 6560-50-P